COMMISSION ON CIVIL RIGHTS

Agenda and Notice of Public Meeting of the District of Columbia Advisory Committee

Notice is hereby given, pursuant to the provisions of the rules and regulations of the U.S. Commission on Civil Rights (Commission), and the Federal Advisory Committee Act (FACA), that orientation and planning meetings of the District of Columbia Advisory Committee to the Commission will convene at 12:00 p.m. (ET) on Friday, April 18, 2014, at 1331 Pennsylvania Avenue NW, Suite 1150, Washington, DC 20425. The purpose of the orientation meeting is to review the rules of operation for the Advisory Committee. The purpose of the planning meeting is for the newly appointed Advisory Committee to consider potential civil rights topics for examination and to plan future activities.

Members of the public are entitled to submit written comments. The comments must be received in the regional office by Monday, May, 19, 2014. Comments may be mailed to the Eastern Regional Office, U.S. Commission on Civil Rights, 1331 Pennsylvania Avenue, Suite 1150, Washington, DC 20425, faxed to (202) 376-7548, or emailed to Melanie Reingardt at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated: March 14, 2014.
David Mussatt,
Acting Chief, Regional Programs Coordination Unit.

[FR Doc. 2014-06056 Filed 3-18-14; 8:45 am]

BILLING CODE 6335-01-P